DEPARTMENT OF ENERGY

10 CFR Parts 429 and 431

[EERE-2016-BT-STD-0004]

RIN 1904-AD61 and 1904-AD77

Energy Conservation Program: Test Procedure and Energy Conservation Standards for Circulator Pumps and Small Vertical In-Line Pumps

AGENCY: Office of Energy Efficiency and Renewable Energy, Department of Energy.

ACTION: Request for information; extension of public comment period.

SUMMARY: On May 7, 2021, the U.S. Department of Energy (“DOE”) published a request for information (“RFI”) restarting rulemaking activities to consider potential test procedures and energy conservation standards for circulator pumps and small vertical in-line pumps. The notification provided an opportunity for submitting written comments, data, and information by July 6, 2021. DOE received requests from Grundfos, the Hydraulic Institute (“HI”), and Taco, Inc. on May 7, 2021, May 10, 2021, and May 14, 2021, respectively, asking DOE to extend the public comment period until August 30, 2021. Additionally, DOE received a request from Xylem Inc. to extend the comment period until September 30, 2021. On May 14, 2021, HI sent a follow-up request providing more information on why an extension is necessary. DOE has reviewed these requests and is granting an extension of the public comment period to allow public comments to be submitted until July 30, 2021.

DATES: The comment period for the RFI published on May 7, 2021 (86 FR 24516) is extended. DOE will accept comments, data, and information regarding this RFI received no later than July 30, 2021.

ADDRESSES: Interested persons are encouraged to submit comments using the Federal eRulemaking Portal at https://www.regulations.gov. Follow the instructions for submitting comments. Alternatively, interested persons may submit comments by email to the following address: Pumps2020TP0032@ee.doe.gov. Include “Circulator Pumps RFI” and docket number EERE-2016-BT-STD-0004 and/or RIN number 1904-AD61 in the subject line of the message. Submit electronic comments in WordPerfect, Microsoft Word, PDF, or ASCII file format, and the use of special characters or any form of encryption. No telefacsimilies (“faxes”) will be accepted.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2016-BT-STD-0004. The docket web page contains instructions on how to access all documents, including public comments, in the docket.

FOR FURTHER INFORMATION CONTACT:

Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket contact the Appliance and Equipment Standards Program staff at (202) 287-1445 or by email: ApplianceStandardsQuestions@ee.doe.gov.

SUPPLEMENTARY INFORMATION: On May 7, 2021, DOE published an RFI seeking data and information regarding development and evaluation of new test procedures that would be reasonably designed to produce test results which reflect energy use during a representative average use cycle for the equipment without being unduly burdensome to conduct. Additionally, the RFI solicited information regarding the development and evaluation of potential new energy conservation standards for circulator pumps and small vertical in-line pumps, and whether such standards would result in significant energy savings and be technologically feasible and economically justified. 86 FR 24516, 24516. Interested parties in the matter, Grundfos (on May 7, 2021), HI (on May 10, 2021), Xylem Inc. (on May 11, 2021), and Taco, Inc. (on May 14, 2021), requested an extension of the public comment period for the RFI. (Grundfos, No. 105 at p. 1; HI, No. 106 at p. 1; Xylem Inc., No. 107, at p. 1; Taco, Inc., No. 108, at p. 1).¹ Grundos, HI, Xylem Inc., and Taco, Inc. commented that the July 6, 2021 deadline is insufficient to collect the data and information requested because the pump industry is already tasked with responding to a separate RFI on Commercial and Industrial pumps in which comments are due on July 1, 2021. (Grundos, No. 105 at p. 1; HI, No. 106 at p. 1; Xylem Inc., No. 107 at p. 1; Taco, Inc., No 108 at p. 1) HI submitted a subsequent request on May 14, 2021 further detailing the reasons that necessitate the extension request. (HI, No. 109, page 1.).

¹ The parenthetical reference provides a reference for information located in DOE's rulemaking docket. (Docket No. EERE-2016-BT-STD-0004, which is maintained at www.regulations.gov/#!docketDetail;D=EERE-2016-BT-STD-0004). The references are arranged as follows: (Commenter name, comment docket ID number, page of that document).

DOE has reviewed the requests and is extending the comment period to allow additional time for interested parties to submit comments. As noted, the RFI was issued as part of the preliminary stages of rulemaking to consider amendments to the test procedure and energy conservation standards for circulator pumps and vertical in-line pumps. If DOE determines that amended test procedures and/or energy conservation standards may be appropriate, additional notifications will be published (e.g., a notice of proposed rulemaking) providing interested parties with an additional opportunity to submit comment. As such, DOE has determined that an extension until the end of July is sufficient for this preliminary stage. Therefore, DOE is extending the comment period to July 30, 2021.

Signing Authority

This document of the Department of Energy was signed on May 18, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 19, 2021.
Treena V. Garrett,
Federal Register Liaison Officer, U.S. Department of Energy.

[FR Doc. 2021-10883 Filed 5-25-21; 8:45 am]

BILLING CODE 6450-01-P